DEPARTMENT OF ENERGY

Federal Energy Regulatory Commission

Combined Notice of Filings #1

Take notice that the Commission received the following electric corporate filings:

Docket Numbers: EC12-56-000.

Applicants: Gilroy Energy Center, LLC, Creed Energy Center, LLC, Goose Haven Energy Center, LLC, Calpine Peaker Holdings, LLC, Peaker Holdings I, LLC,GEC Holdings, LLC.

Description: Joint Application for Authorization under section 203 of the Federal Power Act of Gilroy Energy Center, LLC, et al.

Filed Date: 1/9/12.

Accession Number: 20120109-5147.

Comments Due: 5 p.m. ET 1/30/12.

Docket Numbers: EC12-57-000.

Applicants: Dogwood Energy LLC.

Description: Application for Authorization under section 203 of the Federal Power Act, and Request for Waivers and Expedited Action and Shortened Comment Period of Dogwood Energy LLC.

Filed Date: 1/9/12.

Accession Number: 20120109-5192.

Comments Due: 5 p.m. ET 1/30/12.

Take notice that the Commission received the following electric rate filings:

Docket Numbers: ER11-4417-001.

Applicants: Entergy Arkansas, Inc.

Description: Entergy Arkansas, Inc. submits tariff filing per 35: Transfer Agreements Compliance Filing to be effective 8/1/2011.

Filed Date: 1/9/12.

Accession Number: 20120109-5161.

Comments Due: 5 p.m. ET 1/30/12.

Docket Numbers: ER12-56-001.

Applicants: Midwest Independent Transmission System Operator, Inc.

Description: Midwest Independent Transmission System Operator, Inc. submits tariff filing per 35: Attachment X Clean-Up Compliance to be effective 12/11/2011.

Filed Date: 1/9/12.

Accession Number: 20120109-5117.

Comments Due: 5 p.m. ET 1/30/12.

Docket Numbers: ER12-778-000.

Applicants: Puget Sound Energy, Inc.

Description: Puget Sound Energy, Inc. submits tariff filing per 35.13(a)(1): OATT Formula Rate Filing to be effective 4/1/2012.

Filed Date: 1/6/12.

Accession Number: 20120106-5215.

Comments Due: 5 p.m. ET 1/27/12.

Docket Numbers: ER12-779-000.

Applicants: Cherokee County Cogeneration Partners, LLC.

Description: Cherokee County Cogeneration Partners, LLC submits tariff filing per 35.12: Application for Market-Based Rate Authorization to be effective 1/7/2012.

Filed Date: 1/6/12.

Accession Number: 20120106-5222.

Comments Due: 5 p.m. ET 1/27/12.

Docket Numbers: ER12-780-000.

Applicants: Northern States Power Company, a Minnesota corporation.

Description: Northern States Power Company, a Minnesota corporation submits tariff filing per 35.13(a)(2)(iii: 2012-1-9_EREPC_Str 6-21_O&M_Agmt-318 to be effective 12/13/2011.

Filed Date: 1/9/12.

Accession Number: 20120109-5113.

Comments Due: 5 p.m. ET 1/30/12.

Docket Numbers: ER12-781-000.

Applicants: Indiana Michigan Power Company.

Description: Indiana Michigan Power Company submits tariff filing per 35.1: 20120109 RS and SA Tariff to be effective 1/10/2012.

Filed Date: 1/9/12.

Accession Number: 20120109-5141.

Comments Due: 5 p.m. ET 1/30/12.

Docket Numbers: ER12-782-000.

Applicants: Kingsport Power Company.

Description: Kingsport Power Company submits tariff filing per 35.1: 20120109 RS and SA Tariff to be effective 1/10/2012.

Filed Date: 1/9/12.

Accession Number: 20120109-5143.

Comments Due: 5 p.m. ET 1/30/12.

Docket Numbers: ER12-783-000.

Applicants: Kentucky Power Company.

Description: Kentucky Power Company submits tariff filing per 35.1: 20120109 RS and SA Tariff to be effective 1/10/2012.

Filed Date: 1/9/12.

Accession Number: 20120109-5145.

Comments Due: 5 p.m. ET 1/30/12.

Docket Numbers: ER12-784-000.

Applicants: Wheeling Power Company.

Description: Wheeling Power Company submits tariff filing per 35.1: 20120109 RS and SA Tariff to be effective 1/10/2012.

Filed Date: 1/9/12.

Accession Number: 20120109-5146.

Comments Due: 5 p.m. ET 1/30/12.

Docket Numbers: ER12-785-000.

Applicants: Public Service Company of Colorado.

Description: Public Service Company of Colorado submits tariff filing per 35.13(a)(2)(iii: 2012-1-9_TSGT E&P NOC 281-PSCo Filing to be effective 3/8/2012.

Filed Date: 1/9/12.

Accession Number: 20120109-5152.

Comments Due: 5 p.m. ET 1/30/12.

Docket Numbers: ER12-786-000.

Applicants: Southern California Edison Company.

Description: Southern California Edison Company submits tariff filing per 35.13(a)(2)(iii: Four GIAs and Service Agreements with Windpower Partners 1993, L.P. to be effective 12/28/2011.

Filed Date: 1/9/12.

Accession Number: 20120109-5159.

Comments Due: 5 p.m. ET 1/30/12.

Docket Numbers: ER12-787-000.

Applicants: Dogwood Energy LLC.

Description: Dogwood Energy LLC submits tariff filing per 35.1: Participation Agreement by and Among the City of Independence, et al. to be effective 1/9/2012.

Filed Date: 1/9/12.

Accession Number: 20120109-5160.

Comments Due: 5 p.m. ET 1/30/12.

Docket Numbers: ER12-788-000.

Applicants: California Independent System Operator Corporation.

Description: California Independent System Operator Corporation submits tariff filing per 35.13(a)(2)(iii: 2012-01-09 Amendment to Palo Verde LGIA to be effective 1/7/2012.

Filed Date: 1/9/12.

Accession Number: 20120109-5166.

Comments Due: 5 p.m. ET 1/30/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2012.
Nathaniel J. Davis, Sr.,
Deputy Secretary.

[FR Doc. 2012-793 Filed 1-17-12; 8:45 am]

BILLING CODE 6717-01-P